DEPARTMENT OF THE INTERIOR

National Park Service

[NPS-WASO-NAGPRA-NPS0040181; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH) has completed an inventory of human remains and associated funerary objects and has determined that there is a cultural affiliation between the human remains and associated funerary objects and Indian Tribes or Native Hawaiian organizations in this notice.

DATES: Repatriation of the human remains and associated funerary objects in this notice may occur on or after July 3, 2025.

ADDRESSES: Megan Fry, NAGPRA Coordinator and Bioarchaeologist, University of Florida, Florida Museum of Natural History, 1659 Museum Road, Gainesville, FL 32611, telephone (352) 273-1921, email megan.fry@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing, at least, 281 individuals have been identified from across the Amelia Island North Cemetery and Ossuary, the Amelia Island South Cemetery, and the Harrison Homestead/Dorian sites (8NA61/8NA41d). There are a total of 2,341 associated funerary objects including beads, shell, daub, fauna, flora, ceramic, soil, and other objects. These collections were excavated in the 1970s and in the late 1980s. In the early 1970s, excavations were performed at Harrison Homestead through a museum expedition by E. Thomas Hemmings. Then, in the late 1980s, archaeologists from the FLMNH in conjunction with Dr. Clark Larsen of the University of North Carolina excavated the Ossuary, the North Cemetery, and South Cemetery.

The Amelia Island North Cemetery and Ossuary, also called the Mission Santa Catalina de Guale de Santa Maria (Acc. 89-6), was excavated by the Florida Museum of Natural History (FLMNH) under the direction of Jerald Milanich and Rebecca Saunders, in 1989. There were approximately 98 inhumations and an Ossuary. Of the 98 inhumations, 94 were reinterred in 1993 at the site of the Harrison Family Cemetery, approximately 300m from the original burial location. Those which were reinterred are not counted in this Notice and have never been reported to National NAGPRA on an inventory. The Ossuary produced an additional 80 individuals as well as two coffin burials (labelled “Primary A” and “Primary B”). The human remains obtained from the backfill/spoil (MNI=10) were also not part of the 1993 reburial. The Ossuary (MNI=80), backfill (MNI=10), coffin burials (MNI=2), and four inhumations from the North Cemetery are included in this notice (total MNI=96). There are 447 associated funerary objects including beads, bone tools, faunal bones, shells, and glass objects, pottery fragments and soil found within the cemetery boundaries (22N to 38N and 50W to 66W) split between the Florida Archaeology (n=275) and Environmental Archaeology (n=172) divisions.

The Amelia Island South Cemetery, also called Santa Maria de los Yamassee (Acc. 89-5; FM EAP 0477), was excavated in 1989. The catalog record notes that the excavation occurred partially under the direction of the Piper Archaeological Research, Inc. of St. Petersburg, Florida and partially under the direction of Jerald Milanich and Rebecca Saunders of the FLMNH. All material was transferred to FLMNH. The human remains were loaned to Clark Larsen of the University of North Carolina prior to 1992, and at some unknown date, were returned to FLMNH. The cemetery houses at least 183 Ancestors across 118 burial numbers (or 139 with A and B notations), as well as one burial labelled “Bluff Burial” which came from the bluff just outside of the cemetery context. The total MNI for the South Cemetery is 184 Ancestors. Burials sheets from the time of excavation indicate some artifacts were found with the burials. These primarily include objects like brass aglet, shell beads, glass beads, glass objects. There are 1,876 associated funerary objects including the above-mentioned artifact types as well as soil from the cemeteries found within the cemetery boundaries (120S to 102S and 66W to 77W) and split between the Florida Archaeology (n=1,584) and Environmental Archaeology (n=292) divisions.

The Harrison Homestead site, also called the Dorian (or Darian) site (Acc. 74-42; 73-20; 4113; FM EAP 0115) is listed as 8NA41 on the Amelia Island Plantation. In 1971, test excavations in shell middens at the site (south of the mission churches) were carried out by E. Thomas Hemmings of the Florida Museum of Natural History at the request of Amelia Island Plantation (Hemmings and Deagan 1973). Human skeletal remains (accession 73-20) were found (one fragment of tibia and fragmentary bones from a second individual). It was concluded that the context of the remains was pre-mission and could “be as old as some Orange Incised sherds (1650-1000 B.C.) found a few feet further to the south at a slightly higher elevation” (Bullen in Hemmings and Deagan 1973:77). A Bullen et al. (1973) report notes that the Ancestor was found 1.3 feet below a later St. Augustine Period shell midden. They surmise that the Ancestor was deposited during the Orange Period. They note “no artifacts were present with the burial, but Feature 11, a group of Orange Incised sherds, was also exposed in the wall of Trench B, a few feet south and a slightly higher level than the grave floor.” The site has an MNI of one (listed as FS19 and FS21) based on catalog records. There are no repeating elements and no indication that they were of different ages or sex. Burial 19 appears to be an adult male. Burial 21 is represented by a single element (tibial midshaft) with a periosteal reaction, indicative of osteomyelitis. Note found with burial reads: “FS#19 Burial 1- exposed in a backhoe trench and partially removed by the machine, but also may not have been originally undisturbed and complete as little other bone was recovered in the backhoe backdirt . . . FS#21 one tibia frag[ment] from backdirt, Trench B.” This indicates that they were likely one individual that was recorded as FS19 and FS 21 but labeled as “Burial 1” and were later renumbered using the FS numbers, although the original excavators did not indicate two separate burials. There are 18 associated funerary objects including the ceramic sherds, shells, florals, and stones from the site split between the Florida Archaeological (n=12) and Environmental Archaeology (n=6) divisions.

It is also important to note that sometime between 1989 or 1992, Ancestors from both the North and South Cemeteries were sampled for isotopic analysis and sent to the University of California, San Diego. Those samples were not in the possession or control of FLMNH at the time of this notice and are housed at the University of California, San Diego.

The FLMNH undertook building wide fumigation with Vikane (sulfuryl fluoride) several times since this collection has entered the museum. No other exposure to potentially hazardous substances is known to FLMNH.

Cultural Affiliation

Based on the information available and the results of consultation cultural affiliation is reasonably identified by the geographical location of the human remains described in this notice.

Determinations

The FLMNH has determined that:

• The human remains described in this notice represent the physical remains of 281 individuals of Native American ancestry.

• The 2,341 objects described in this notice are reasonably believed to have been placed intentionally with or near individual human remains at the time of death or later as part of the death rite or ceremony.

• There is a connection between the human remains and associated funerary objects described in this notice and the Seminole Tribe of Florida and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 3, 2025. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: May 13, 2025.
Melanie O'Brien,
Manager, National NAGPRA Program.

[FR Doc. 2025-10018 Filed 6-2-25; 8:45 am]

BILLING CODE 4312-52-P